LEGAL SERVICES CORPORATION

Call-In Instructions for Sunshine Act Meetings of the Board of Directors and Four of the Board's Committees

Times and Dates: The Legal Services Corporation Board of Directors and four of its Committees will meet on April 27-28, 2007 in the order set forth in the following schedule, with each meeting commencing shortly after adjournment of the immediately preceding meeting.

Public Observation by Telephone: Members of the public that wish to listen to the open portions of the meetings live may do so by following the telephone call-in directions given below. You are asked to keep your telephone muted to eliminate background noises. Comments from the public may be solicited by the presiding official from time-to-time and remarks may then be offered.

Call-In Instructions: 1. Call toll-free number 1-877-352-5208;

2. When prompted, enter the following numeric pass code: 66701;

3. When connected to the call, each callers should immediately “MUTE” his/her telephone.

Meeting Schedule
Meeting type | Date | Approximate time ¹ | Status
Provisions Committee | Friday, April 27 | 1:30 p.m | Open.
Ops & Regs Committee | Friday, April 27 | (Following prior meeting) | Open.
Performance Reviews Committee | Saturday, April 28 | 8:30 a.m | CLOSED to the public.
Ops & Regs Committee (cont.) | Saturday, April 28 | (Following prior meeting) | Open.
Finance Committee | Saturday, April 28 | (Following prior meeting) | Open.
Board of Directors ² | Saturday, April 28 | 1 p.m | Open.
Board of Directors | Saturday, April 28 | (Following open session) | CLOSED to the public.
¹ Please note that the meetings will be held in the Central Time zone and that projected meeting times may not be exact.
² It is LSC's goal to begin the open portion of the Board of Directors meeting at approximately 1 p.m., after a brief lunch break. Depending on the length of the preceding meetings, however, it is possible that the Board's meeting could begin earlier or later than 1 p.m.

Location: The Peabody Hotel, Three State Street, Little Rock, Arkansas.

Agendas for the meetings were issued previously and may be viewed on the Corporation's Web site at http://www.lsc.gov/pdfs/04-27-07BoardCommittees.pdf.

Contact Person for Information: Patricia D. Batie, Manager of Board Operations, at (202) 295-1500.

Special Needs: Upon request, meeting notices will be made available in alternate formats to accommodate visual and hearing impairments. Individuals who have a disability and need an accommodation to attend the meeting may notify Patricia D. Batie, at (202) 295-1500.

Dated: April 20, 2007.
Victor M. Fortuno,
Vice President for Legal Affairs, General Counsel & Corporate Secretary.

[FR Doc. 07-2052 Filed 4-20-07; 2:46 pm]

BILLING CODE 7050-01-P